DEPARTMENT OF COMMERCE

Foreign-Trade Zones Board

[Docket 14-2000]

Foreign-Trade Zone 149—Freeport, Texas, Area; Application for Expansion

An application has been submitted to the Foreign-Trade Zones (FTZ) Board (the Board) by the Brazos River Harbor Navigation District, grantee of FTZ 149, requesting authority to expand its zone in the Freeport, Texas area, adjacent to the Freeport Customs port of entry. The application was submitted pursuant to the provisions of the Foreign-Trade Zones Act, as amended (19 U.S.C. 81a-81u), and the regulations of the Board (15 CFR part 400). It was formally filed on April 14, 2000.

FTZ 149 was approved on June 28, 1988 (Board Order 385, 53 FR 26096, 7/11/88). The zone project currently consists of the following sites (1,957 acres) within the Port of Freeport and at the Brazoria County Airport: Site 1 (280 acres)—on F.M. Route 1495 at the Freeport Harbor on the west side of the Brazos River Harbor Channel; Site 2 (154 acres)—on Holly Street in Quintana, south of the Gulf Intracoastal Waterway; Site 3 (1,063 acres)—at the intersection of Highway 288 and F.M. Route 1495; Site 4 (242 acres)—on F.M. Route 1495, north of the Gulf Intracoastal Waterway and south of the Brazos River Harbor Channel; Site 5 (213 acres)—on County Road 723 south of Site 4 and the Gulf Intracoastal Waterway; and, Site 6 (5 acres)—located east of the main runway at the Brazoria County Airport.

The applicant is now requesting authority to expand its general-purpose zone to enlarge Site 6 at the Brazoria County Airport; add 3 new sites (Proposed Sites 7-9) in the City of Pearland (Brazoria/Harris Counties), 38 miles north of Port Freeport; and, add a new site (Proposed Site 10) in the City of Alvin (Brazoria County), 30 miles north of Port Freeport. Site 6 will be expanded from 5 acres to 146 acres within the 665-acre Brazoria County Airport/Industrial Park complex. The four new proposed sites are as follows: Proposed Site 7 (506 acres)—Northern Industrial Complex, adjacent to Highway 35, Pearland (Brazoria County); Proposed Site 8 (832 acres)—Southern Industrial Complex, 4 miles from the Sam Houston Parkway/Beltway 8, Pearland (Brazoria County); Proposed Site 9 (146 acres)—Bybee-Sterling Complex, Hooper Road and Sam Houston Parkway, Pearland (Harris County); and, Proposed Site 10 (8 acres)—Santa Fe Industrial Park, 200 Avenue I, Alvin (Brazoria County). No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is June 26, 2000. Rebuttal comments in response to material submitted during the foregoing period may be submitted during the subsequent 15-day period (to July 10, 2000).

A copy of the application and accompanying exhibits will be available for public inspection at each of the following locations:

Office of the Port Director, U.S. Customs Service, 2350 N. Sam Houston Parkway East, Suite 1000, Houston, TX 77032

Office of the Executive Secretary, Foreign-Trade Zones Board, Room 3716, U.S. Department of Commerce, 14th & Pennsylvania Avenue NW, Washington, DC 20230

Dated: April 14, 2000.
Dennis Puccinelli,
Acting Executive Secretary.

[FR Doc. 00-10415 Filed 4-25-00; 8:45 am]

BILLING CODE 3510-DS-P